DEPARTMENT OF THE INTERIOR

Bureau of Land Management

[WY-957-05-1320-BJ]

Notice of Filing of Plats of Survey

AGENCY: Bureau of Land Management, Interior.

ACTION: Notice of filing of plats of survey, Wyoming.

SUMMARY: The Bureau of Land Management (BLM) has filed the plats of survey of the lands described below in the BLM Wyoming State Office, Cheyenne, Wyoming, on March 15, 2005.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat and field notes representing the corrective dependent resurvey of a portion of the subdivisional lines, Township 17 North, Range 94 West, Sixth Principal Meridian, Wyoming, was accepted March 15, 2005.

The plat and field notes representing the dependent resurvey of a portion of the Thirteenth Standard Parallel North, through Range 76 West, a portion of the Ninth Auxiliary Meridian West, through Township 52 North, between Ranges 76 and 77 West, a portion of the south boundary, and the subdivisional lines, Township 52 North, Range 76 West, Sixth Principal Meridian, Wyoming, was accepted March 15, 2005.

Copies of the preceding described plats and field notes are available to the public at a cost of $1.10 per page.

Dated: March 15, 2005.
John P. Lee,
Chief Cadastral Surveyor, Division of Support Services.

[FR Doc. 05-5910 Filed 3-24-05; 8:45 am]

BILLING CODE 4310-22-P